DEPARTMENT OF COMMERCE

International Trade Administration

[A-791-823, A-823-816]

Carbon and Alloy Steel Wire Rod From the Republic of South Africa and Ukraine: Antidumping Duty Orders

AGENCY: Enforcement and Compliance, International Trade Administration, Department of Commerce.

SUMMARY: Based on affirmative final determinations by the Department of Commerce (Commerce) and the International Trade Commission (the ITC), Commerce is issuing antidumping duty orders on carbon and alloy steel wire rod (wire rod) from the Republic of South Africa (South Africa) and Ukraine.

DATES: Applicable March 14, 2018.

FOR FURTHER INFORMATION CONTACT: Moses Song at (202) 482-5041 or John McGowan (202) 482-3019 (South Africa), Julia Hancock at (202) 482-1394, Annathea Cook at (202) 482-0250, or Courtney Canales at (202) 482-4997 (Ukraine), AD/CVD Operations, Office V & VI, Enforcement and Compliance, International Trade Administration, U.S. Department of Commerce, 1401 Constitution Avenue NW, Washington, DC 20230.

SUPPLEMENTARY INFORMATION:

Background

In accordance with sections 735(d) and 777(i)(1) of the Tariff Act of 1930, as amended (the Act), and 19 CFR 351.210(c), on January 16, 2018, Commerce published its affirmative final determinations in the less-than-fair-value (LTFV) investigations of wire rod from South Africa and Ukraine.¹ On March 1, 2018, the ITC notified Commerce of its final affirmative determination that an industry in the United States is materially injured within the meaning of section 735(b)(1)(A)(i) of the Act, by reason of the LTFV imports of wire rod from South Africa and Ukraine, and its determination that critical circumstances do not exist with respect to imports of wire rod from South Africa subject to Commerce's affirmative critical circumstances determination.² The ITC published its final determination on March 7, 2018.³

¹ See Carbon and Alloy Steel Wire Rod from the Republic of South Africa: Affirmative Final Determination of Sales at Less Than Fair Value and Affirmative Finding of Critical Circumstances, 83 FR 2141 (January 16, 2018) (South Africa Final Determination); Carbon and Alloy Steel Wire Rod from Ukraine: Affirmative Final Determination of Sales at Less Than Fair Value, 83 FR 2135 (January 16, 2018) (Ukraine Final Determination).

² See Letter from the ITC to the Hon. Gary Taverman, dated March 1, 2018 (ITC Notification Letter).

³ See Carbon and Certain Alloy Steel Wire Rod from South Africa and Ukraine; Determinations, 83 FR 9749 (March 7, 2018).

Scope of the Orders

The merchandise covered by these orders is wire rod from South Africa and Ukraine. For a complete description of the scope of these orders, see the Appendix to this notice.

Antidumping Duty Orders

On March 1, 2018, in accordance with sections 735(b)(1)(A)(i) and 735(d) of the Act, the ITC notified Commerce of its final determinations in these investigations, in which it found that an industry in the United States is materially injured by reasons of imports of wire rod from South Africa and Ukraine.⁴ The ITC also notified Commerce of its determination that critical circumstances do not exist with respect to imports of wire rod from South Africa subject to Commerce's critical circumstances finding.⁵ Therefore, in accordance with section 735(c)(2) of the Act, we are issuing these AD orders. Because the ITC determined that imports of wire rod from South Africa and Ukraine are materially injuring a U.S. industry, unliquidated entries of such merchandise from South Africa and Ukraine, entered or withdrawn from warehouse for consumption, are subject to the assessment of antidumping duties.

⁴ See ITC Notification Letter.

⁵ Id.

As a result of the ITC's final affirmative determinations, in accordance with section 736(a)(1) of the Act, Commerce will direct U.S. Customs and Border Protection (CBP) to assess, upon further instruction by Commerce, antidumping duties equal to the amount by which the normal value of the merchandise exceeds the export price (or constructed export price) of the merchandise, for all relevant entries of wire rod from South Africa and Ukraine. Antidumping duties will be assessed on unliquidated entries of wire rod from South Africa and Ukraine entered, or withdrawn from warehouse, for consumption on or after October 31, 2017, the date of publication of the preliminary determinations,⁶ but will not include entries occurring after the expiration of the provisional measures period and before publication in the Federal Register of the ITC's final injury determination, as further described below.

⁶ See Carbon and Alloy Steel Wire Rod from the Republic of South Africa: Preliminary Affirmative Determination of Sales at Less Than Fair Value, Preliminary Affirmative Determination of Critical Circumstances, and preliminary Determination of No Shipments, 82 FR 50383 (October 31, 2017) (South Africa Preliminary Determination); Carbon and Alloy Steel Wire Rod from Ukraine: Preliminary Affirmative Determination of Sales at Less Than Fair Value: Preliminary Determination of Sales at Less Than Fair Value and Postponement of Final Determination, 82 FR 50375 (October 31, 2017) (Ukraine Preliminary Determination).

Suspension of Liquidation

In accordance with section 735(c)(1)(B) of the Act, we will instruct CBP to reinstitute suspension of liquidation on all relevant entries of wire rod from South Africa and Ukraine. These instructions suspending liquidation will remain in effect until further notice.

Commerce will also instruct CBP to require cash deposits for estimated antidumping duties equal to the estimated weighted-average dumping margins indicated below. Accordingly, effective the date of publication of the ITC's final affirmative injury determination in the Federal Register, CBP will require, at the same time as importers would normally deposit estimated duties on this subject merchandise, a cash deposit equal to the estimated weighted-average dumping margins listed below.⁷ The relevant “all-others” rates apply to all producers or exporters not specifically listed, as appropriate.

⁷ See section 736(a)(3) of the Act.

Provisional Measures

Section 733(d) of the Act states that the suspension of liquidation pursuant to an affirmative preliminary determination may not remain in effect for more than four months, except that Commerce may extend the four-month period to no more than six months at the request of exporters representing a significant proportion of exports of the subject merchandise. In reference to these proceedings, a request to extend the final determination and extend provisional measures pursuant to 19 CFR 351.210(e) was received from exporters of wire rod from South Africa and the Ukraine. Commerce's preliminary determinations were published on October 31, 2017.⁸ Commerce's final determinations were not extended, and were published on January 16, 2018. As such, the four-month period ended on February 27, 2018. Pursuant to section 737(b) of the Act, the collection of cash deposits at the rates listed below will begin on the date of publication of the ITC's final injury determination.

⁸ See Preliminary Determinations.

Therefore, in accordance with section 733(d) of the Act, Commerce will instruct CBP to terminate the suspension of liquidation and to liquidate, without regard to antidumping duties, unliquidated entries of wire rod from South Africa and Ukraine entered, or withdrawn from warehouse, for consumption after February 27, 2018, the date on which provisional measures expired, through the day preceding the date of publication of the ITC's final determination in the Federal Register. Suspension of liquidation will resume on the date of publication of the ITC's final determination in the Federal Register.

Critical Circumstances

With regard to the ITC's negative critical circumstances determination regarding imports of wire rod from South Africa, Commerce will instruct CBP to lift suspension and refund any cash deposits made to secure payment of estimated antidumping duties on subject merchandise entered, or withdrawn from warehouse, for consumption on or after August 2, 2017, (i.e., 90 days prior to the date of publication of the preliminary determinations), but before October 31, 2017, (i.e., the date of publication of the preliminary determinations).

Estimated Weighted-Average Dumping Margins

The estimated weighted-average dumping margins for each antidumping order are as follows:

⁹ Commerce has determined that ArcelorMittal South Africa Limited, Scaw South Africa (Pty) Ltd. (also known as Scaw Metals Group), and Consolidated Wire Industries are a single entity. See Memorandum, “Less-Than-Fair-Value Investigation of Carbon and Alloy Steel Wire Rod from the Republic of South Africa: Affiliation and Collapsing Memorandum for ArcelorMittal South Africa Limited, Scaw South Africa (Pty) Ltd. and Consolidated Wire Industries,” dated October 24, 2017, unchanged in South Africa Final Determination.

¹⁰ See South Africa Final Determination, 83 FR at 2141.

¹¹ Id.

Exporter/producer | Estimated weighted-average dumping margin (percent)
South Africa:
ArcelorMittal South Africa Limited, Scaw South Africa (Pty) Ltd. (also known as Scaw Metals Group), and Consolidated Wire Industries ⁹ | ¹⁰ 142.26
All-Others | ¹¹ 135.46
Ukraine:
ArcelorMittal Steel Kryvyi Rih | ¹² 44.03
Public Joint Stock Company Yenakiieve Iron And Steel Works | ¹³ 44.03
All-Others | ¹⁴ 34.98

Notification to Interested Parties

This notice constitutes the antidumping duty orders with respect to wire rod from South Africa and Ukraine pursuant to section 736(a) of the Act. Interested parties can find a list of AD orders currently in effect at http://enforcement.trade.gov/stats/iastats1.html.

These orders are published in accordance with section 736(a) of the Act and 19 CFR 351.211(b).

¹² See Ukraine Final Determination, 83 FR 2135.

¹³ Id.

¹⁴ Id.

Dated: March 8. 2018.
Gary Taverman,
Deputy Assistant Secretary for Antidumping and Countervailing Duty Operations, performing the non-exclusive functions and duties of the Assistant Secretary for Enforcement and Compliance.

Appendix

Scope of the Orders

The scope of these orders covers certain hot-rolled products of carbon steel and alloy steel, in coils, of approximately round cross section, less than 19.00 mm in actual solid cross-sectional diameter. Specifically excluded are steel products possessing the above-noted physical characteristics and meeting the Harmonized Tariff Schedule of the United States (HTSUS) definitions for (a) stainless steel; (b) tool steel; (c) high-nickel steel; (d) ball bearing steel; or (e) concrete reinforcing bars and rods. Also excluded are free cutting steel (also known as free machining steel) products (i.e., products that contain by weight one or more of the following elements: 0.1 percent of more of lead, 0.05 percent or more of bismuth, 0.08 percent or more of sulfur, more than 0.04 percent of phosphorous, more than 0.05 percent of selenium, or more than 0.01 percent of tellurium). All products meeting the physical description of subject merchandise that are not specifically excluded are included in this scope.

The products under these orders are currently classifiable under subheadings 7213.91.3011, 7213.91.3015, 7213.91.3020, 7213.91.3093, 7213.91.4500, 7213.91.6000, 7213.99.0030, 7227.20.0030, 7227.20.0080, 7227.90.6010, 7227.90.6020, 7227.90.6030, and 7227.90.6035 of the HTSUS. Products entered under subheadings 7213.99.0090 and 7227.90.6090 of the HTSUS may also be included in this scope if they meet the physical description of subject merchandise above. Although the HTSUS subheadings are provided for convenience and customs purposes, the written description of the scope of these proceedings is dispositive.

[FR Doc. 2018-05153 Filed 3-13-18; 8:45 am]

BILLING CODE 3510-DS-P